Title 3—

The President

Proclamation 8839 of June 15, 2012

Father's Day, 2012

By the President of the United States of America

A Proclamation

Every day, ordinary Americans make extraordinary contributions to the well-being of our children and the strength of our Nation by answering one of life's greatest callings—parenthood. Morning, noon, and night, they dedicate themselves to their sons and daughters, expressing a love that knows neither beginning nor end through small daily acts. On Father's Day, we honor the men whose compassion and commitment have nourished our spirits and guided us toward brighter horizons.

For many of us, our fathers show us by the example they set the kind of people they want us to become. Whether biological, foster, or adoptive, they teach us through the encouragement they give, the questions they answer, the limits they set, and the strength they show in the face of difficulty and hardship. Our fathers impart lessons and values we will always carry with us. With their presence and their care, they not only fulfill a profound responsibility, but also share a blessing with their children that stands among our truest traditions.

Every father bears a fundamental obligation to do right by their children. Yet, today, too many young Americans grow up without the love and support of their fathers. When the responsibilities of fathers go unmet, our communities suffer. That is why my Administration is working to promote responsible fatherhood by helping dads re-engage with their families and supporting programs that work with fathers. And that is why men across our country are making the decision every single day to step up; to be good fathers; and to serve as mentors, tutors, and foster parents to young people who need the guiding hand of a caring adult.

All of us have a stake in forging stronger bonds between fathers and their children. Today, we celebrate men who have risen to the task, who raised us, and who do that most important work of parenting, day in and day out, with love, humility, and pride.

NOW, THEREFORE, I, BARACK OBAMA, President of the United States of America, in accordance with a joint resolution of the Congress approved April 24, 1972, as amended (36 U.S.C. 109), do hereby proclaim June 17, 2012, as Father's Day. I direct the appropriate officials of the Government to display the flag of the United States on all Government buildings on this day, and I call upon all citizens to observe this day with appropriate programs, ceremonies, and activities.

IN WITNESS WHEREOF, I have hereunto set my hand this fifteenth day of June, in the year of our Lord two thousand twelve, and of the Independence of the United States of America the two hundred and thirty-sixth.

[FR Doc. 2012-15294

Filed 6-20-12; 8:45 am]

Billing code 3295-F2-P